DEPARTMENT OF HOUSING AND URBAN DEVELOPMENT

[Docket No. FR-4651-N-04]

Submission for Emergency OMB Review: Public Comments on Fair Housing Act (FHA) Training and Technical Guidance

AGENCY: Office of Fair Housing and Equal Opportunity, HUD.

ACTION: Notice of proposed information collection requirement.

SUMMARY: The proposed information collection requirement described below has been submitted to the Office of Management and Budge (OMB) for emergency review and approval, as required by the Paperwork Reduction Act. The Department is soliciting public comments on the subject proposal. The Department of Housing and Urban Development (HUD) will be offering Training and Technical Guidance on the Fair Housing Act. Under the Fair Housing Act, it is unlawful to design and construct certain attached single-family and multifamily (buildings having four or more units) dwellings built for first occupancy after March 13, 1991, in a manner that makes them inaccessible to persons with disabilities. It also established design and construction requirements to make these dwellings readily accessible to and usable by persons with disabilities. KPMG Consulting, Inc., under contract to HUD, will be collecting information from the appropriate parties including, but not limited to, builders, architects, engineers, disabled persons, realtors, and code bodies in order to tailor the training and technical guidance to the intended audience.

DATES: Submit comments on or before: September 13, 2001.

ADDRESSES: Interested person are invited to submit comments regarding this proposal. Comments should refer to the proposal by name and/or OMB Control Number and should be sent to: Joseph F. Lackey, Jr., HUD Desk Officer, Office of Management and Budget, New Executive Office Building, Washington, DC 20503.

FOR FURTHER INFORMATION CONTACT: Wayne Eddins, Reports Management Officer, Department of Housing and Urban Development, 451 Seventh Street SW., Washington, DC 20410, telephone (202) 708-2374 (this is not a toll-free number) or e-mail to Wayne_Eddins@HUD.gov. Copies of the available documents submitted to OMB may be obtained from Mr. Eddins. Hearing or speech-impaired individuals may obtain further information via TTY by calling the toll-free Federal Information Relay Service at 1-800-877-8399.

SUPPLEMENTARY INFORMATION: The Department has submitted the proposal for the collection of information, as described below, to OMB for review as required by the Paperwork Reduction Act of 1995 (44 U.S.C. Chapter 35, as amended). HUD has requested OMB approval by September 15, 2001.

An agency may not conduct or sponsor, and a person is not required to respond to, a collection of information unless collection displays a valid control number.

This notice contains the following information:

(1) The title for the collection of information;

(2) A summary of the collection of information;

(3) A brief description of the need for the information and proposed use of the information;

(4) A description of the likely respondents, including the estimated number of likely respondents, and proposed frequency of response to the collection of information;

(5) An estimate of the total annual reporting and recordkeeping burden that will result from the collection of information;

Title: Fair Hosing Act Training and Technical Guidance.

OMB Control Number: Pending.

Type of submission: Emergency expedited.

Form Number(s): No form required.

Reporting Burden:

Number of respondents | × | Frequency of response | × | Hours per response | = | Total burden hours
1000 |  | 1 |  | 0.3 |  | 300

Contract: Cheryl Kent, HUD (202-708-2333, ext. 7058.) Joseph Lackey, OMB, (202) 395-7316

Authority: Section 3507 of the Paperwork Reduction Act of 1995, 44 U.S.C. Chapter 35, as amended.

Dated: August 29, 2001.
Wayne Eddins,
Reports Management Officer, Office of the Chief Information Officer.

[FR Doc. 01-22408 Filed 9-5-01; 8:45 am]

BILLING CODE 4210-28-M